DEPARTMENT OF HOMELAND SECURITY

U.S. Customs and Border Protection

Forced Labor Technical Expo

AGENCY: U.S. Customs and Border Protection, DHS.

ACTION: Notice of Forced Labor Technical Expo.

SUMMARY: This document announces that U.S. Customs and Border Protection (CBP) will convene the Forced Labor Technical Expo in Washington, DC, on Tuesday, March 14, 2023, and Wednesday, March 15, 2023. The event will feature industry presentations on the latest technologies in supply chain transparency, as well as panel discussions on topics such as forced labor initiatives and future technologies, with the U.S. Department of Homeland Security (DHS), CBP personnel, and other U.S. Government agencies. Members of the international trade community and other interested parties are encouraged to attend.

DATES: Tuesday, March 14, 2023 (opening remarks and industry presentations, including a DHS-led panel discussion, 8 a.m. to 5 p.m., EST), and Wednesday, March 15, 2023 (opening remarks and industry presentations, including a CBP-led panel discussion, 8 a.m. to 5 p.m., EST).

ADDRESSES: The Forced Labor Technical Expo will be held at the Ronald Reagan Building Atrium located at 1300 Pennsylvania Avenue NW, Washington, DC 20004.

Registration: Members of the public who intend to participate in person should register using the online instructions at https://www.cbp.gov/trade/forced-labor-technical-expo-2023 by 5 p.m., EST, on March 1, 2023. Space is limited. A registration fee will not be required for this event.

The Forced Labor Technical Expo will also be available globally through a live stream. For complete coverage of the event, interested parties can locate the live stream link on the CBP website at https://www.cbp.gov/trade/forced-labor-technical-expo-2023.

Members of the public who are registered to attend and who need to cancel should do so by 5 p.m. EST on March 8, 2023, using the online instructions at https://www.cbp.gov/trade/forced-labor-technical-expo-2023. For information on facilities or services for individuals with disabilities or to request special assistance at the meeting, contact the Office of Trade Relations at tradeevents@cbp.dhs.gov as soon as possible.

FOR FURTHER INFORMATION CONTACT: Ms. Johanna Estes, Office of Trade, at (202) 594-7933 or via email at tradeevents@cbp.dhs.gov. The most current Forced Labor Technical Expo information can be found at https://www.cbp.gov/trade/forced-labor-technical-expo-2023.

SUPPLEMENTARY INFORMATION: This document announces that U.S. Customs and Border Protection (CBP) will convene the Forced Labor Technical Expo in Washington, DC, on Tuesday, March 14, 2023, and Wednesday, March 15, 2023. The Forced Labor Technical Expo offers a forum for industry to provide the international trade community with information about the latest technologies that can aid in securing and managing the flow of goods. The event will showcase the latest innovations in supply chain technology to help improve trade transparency and compliance with trade laws, with an emphasis on compliance with 19 U.S.C. 1307, as amended, and the Uyghur Forced Labor Prevention Act, Public Law 117-78.

The Forced Labor Technical Expo will feature panels composed of U.S. Department of Homeland Security and CBP personnel, as well as representatives from other U.S. Government agencies. The panel discussions will address U.S. Government agency initiatives and future innovations in supply chain transparency.

Technology providers interested in sharing relevant technologies should visit https://www.cbp.gov/trade/forced-labor-technical-expo-2023 for details.

The Forced Labor Technical Expo agenda can be found on the CBP website at https://www.cbp.gov/trade/forced-labor-technical-expo-2023.

Dated: February 10, 2023.
AnnMarie R. Highsmith,
Executive Assistant Commissioner, Office of Trade.

[FR Doc. 2023-03227 Filed 2-14-23; 8:45 am]

BILLING CODE 9111-14-P